FEDERAL TRADE COMMISSION

Sunshine Act Meeting

AGENCY: Federal Trade Commission.

Time and Date: 10 a.m., Tuesday, January 7, 2003.

Place: Federal Trade Commission Building, Room 532, 600 Pennsylvania Avenue, NW., Washington, DC 20580.

Status: Part of the meeting will be open to the public. The rest of the meeting will be closed to the public.

Matters to be considered: Portion Open to the Public: (1) Oral Argument in Schering-Plough Corporation et al., Docket 9297.

Portion Closed to Public: (2) Executive Session to follow Oral Argument in Schering-Plough Corporation, et al., Docket 9297.

For Further Information Contact: Mitch Katz, Office of Public Affairs: (202) 326-2180. Recorded Message: (202) 326-2711.

Donald S. Clark,
Secretary.

[FR Doc. 02-30651 Filed 11-27-02; 8:45 am]

BILLING CODE 6750-01-M